DEPARTMENT OF HEALTH AND HUMAN SERVICES

Substance Abuse and Mental Health Services Administration

Funding Opportunities Notice for State Training and Evaluation of Evidence-Based Practices, March 24, 2003 Application Receipt Date

AGENCY: Center for Mental Health Services (CMHS), Substance Abuse and Mental Health Services Administration (SAMHSA), DHHS.

ACTION: Modification/Clarification of a Notice of Funding Availability Regarding the Substance Abuse and Mental Health Services Administration, Center for Mental Health Services, grants for State Training and Evaluation of Evidence-Based Practices.

SUMMARY: Federal Register Notice referring to the current RFA SM 03-003 and indicating the availability of funds for State Training and Evaluation of Evidence-Based Practices with a March 24, 2003 receipt date. This notice is to inform the public of expanded eligibility for the SAMHSA/CMHS announcement No. SM 03-003, State Training and Evaluation of Evidence-Based Practices (Short Title: EBP Training and Evaluation). In addition to State mental health authorities, as described in SM 03-003, Indian tribes or tribal organizations (as defined in Section 4(b) and Section 4(c) of the Indian Self-determination and Education Assistance Act) are also eligible to apply.

The EBP Training and Evaluation grants will fund the States/Tribes/Tribal Organizations to (1) provide state-of-the-art training and continuing education to State mental health service providers and other stakeholders who are implementing one or more of six EBPs for which SAMHSA has previously developed implementation Resource Kits, and (2) evaluate the implementation of selected EBPs in two or more communities within the service areas of the State/Tribe/Tribal Organization. The average annual award will range from $250,000 to $325,000 in total costs.

Program Contact: For questions concerning program issues, contact: Crystal R. Blyler, Ph.D., Community Support Program, Suite 11C-22, 5600 Fishers Lane, Rockville, MD 20857, 301-594-3997, Fax 301-443-0541, e-mail: cblyler@samhsa.gov.

Dated: February 6, 2003.
Richard Kopanda,
Executive Officer, SAMHSA.

[FR Doc. 03-3878 Filed 2-18-03; 8:45 am]

BILLING CODE 4162-20-P